DEPARTMENT OF HEALTH AND HUMAN SERVICES

Centers for Disease Control and Prevention

Board of Scientific Counselors, National Center for Health Statistics (BSC, NCHS)

AGENCY: Centers for Disease Control and Prevention (CDC), Department of Health and Human Services (HHS).

ACTION: Notice of meeting.

SUMMARY: In accordance with the Federal Advisory Committee Act, the CDC announces the following meeting for the Board of Scientific Counselors, National Center for Health Statistics BSC, NCHS. This meeting is open to the public; however, visitors must be processed in accordance with established federal policies and procedures. For foreign nationals or non-U.S. citizens, pre-approval is required (please contact Gwen Mustaf, 301-458-4500, glm4@cdc.gov or Sayeedha Uddin, 301-458-4303, isx9@cdc.gov at least 4 weeks in advance for requirements). All visitors are required to present a valid form of picture identification issued by a state, federal in international government. As required by the Federal Property Management Regulations, Title 41, Code of Federal Regulations, Subpart 101-20.301, all persons entering in or on Federal controlled property and their packages, briefcases, and other containers in their immediate possession are subject to being x-rayed and inspected. Federal law prohibits the knowing possession or the causing to be present of firearms, explosives and other dangerous weapons and illegal substances. The meeting room accommodates approximately 78 people.

DATES: The meeting will be held on January 9, 2020, 11:00 a.m.-5:30 p.m., EDT, and January 10, 2020, 8:30 a.m.-1:00 p.m., EDT.

ADDRESSES: NCHS Headquarters, 3311 Toledo Road, Hyattsville, Maryland 20782.

FOR FURTHER INFORMATION CONTACT: Sayeedha Uddin, M.D., M.P.H., Executive Secretary, NCHS/CDC, Board of Scientific Counselors, 3311 Toledo Road, Room 2627, Hyattsville, Maryland 20782; telephone (301) 458-4303; email isx9@cdc.gov.

SUPPLEMENTARY INFORMATION:

Purpose: This committee is charged with providing advice and making recommendations to the Secretary, Department of Health and Human Services; the Director, CDC; and the Director, NCHS, regarding the scientific and technical program goals and objectives, strategies, and priorities of NCHS.

Matters To Be Considered: The agenda will include discussion on items per the scope of the Charter. Day One: The meeting agenda includes welcome remarks and a Center update by NCHS leadership; an update on Patient Centered Outcomes Research Trust Fund Projects; presentation of the Non-response Bias workgroup report; an update on National Health and Nutrition Examination Survey planning; and discussion on data modernization in NCHS. Day Two: The meeting agenda includes discussion of the future planning for the National Ambulatory Medical Care Survey and the National Survey of Family Growth; and an update on data presentation standards for rates for vital statistics. Agenda items are subject to change as priorities dictate.

Requests to make oral presentations should be submitted in writing to Gwen Mustaf, 301-458-4500, glm4@cdc.gov, or Sayeedha Uddin, 301-458-4303, isx9@cdc.gov. All requests must contain the name, address, telephone number, and organizational affiliation of the presenter. Written comments should not exceed five single-spaced typed pages in length and must be received by December 26, 2019.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2019-25467 Filed 11-22-19; 8:45 am]

BILLING CODE 4163-18-P